DEPARTMENT OF AGRICULTURE

Farm Service Agency

[Docket ID FSA-2023-0002]

Information Collection Request; Inventory Property Management

AGENCY: Farm Service Agency, USDA.

ACTION: Notice; request for comment.

SUMMARY: In accordance with the Paperwork Reduction Act of 1995, the Farm Service Agency (FSA) is requesting comments from all interested individuals and organizations on an extension with a revision of a current information collection request for Inventory Property Management. For Inventory Property Management, the collected information is used to evaluate applicant requests to purchase inventory property, determine eligibility to lease or purchase inventory property, and ensure the payment of the lease amount or purchase amount associated with the acquisition of inventory property.

DATES: We will consider comments that we receive by April 17, 2023.

ADDRESSES: We invite you to submit comments on the notice. You may submit comments by any of the following methods:

• Federal eRulemaking Portal: Go to http://regulations.gov and search for docket ID FSA-2023-0002. Follow the online instructions for submitting comments.

• Mail: Lee Nault, Loan Servicing and Properties Management Division, USDA, FSA, Farm Loan Programs, 1400 Independence Ave. SW, Mail Stop 0523, Washington, DC 20250-00523.

Comments will be available for inspection online at http://www.regulations.gov. Copies of the information collection may be requested by contacting Lee Nault (see FOR FURTHER INFORMATION CONTACT below). You may also send comments to the Desk Officer for Agriculture, Office of Information and Regulatory Affairs, Office of Management and Budget, Washington, DC 20503.

FOR FURTHER INFORMATION CONTACT: Lee Nault, (202) 720-6834; email: Lee.Nault@usda.gov. Persons with disabilities who require alternative means for communication should contact the USDA Target Center at (202) 720-2600 (voice).

SUPPLEMENTARY INFORMATION:

Description of Information Collection Request

Title: Inventory Property Management.

OMB Number: 0560-0234.

Expiration Date of Approval: 06/30/2023.

Type of Request: Revision.

Abstract: FSA's Farm Loan Programs provide supervised credit in the form of loans to family farmers to purchase real estate and equipment and finance agricultural production. Inventory Property Management, as specified in 7 CFR part 767, provides the requirements for the management, lease, and sale of security property acquired by FSA. FSA may take title to real estate as part of dealing with a problem loan either by entering a winning bid to protect its interest at a foreclosure sale, or by accepting a deed of conveyance in lieu of foreclosure. Information collections established in the regulation are necessary for FSA to determine an applicant's eligibility to lease or purchase inventory property and to ensure the applicant's ability to make payment on the lease or purchase amount.

The number of responses and burden hours decreased by 79 and 46, respectively. While the overall number of inventory properties on hand increased 4.76% from the last collection, the decrease in responses and burden hours is due to a reduction in the estimated number of inventory properties that will be sold annually. The number projected to be sold has been revised downward due to the current suspension of foreclosures for direct FLP loans and anticipated significantly decreased rate at which new properties are acquired by FSA. Additionally, sales are managed in order to not flood the market and usage of forms should stay consistent.

For the following estimated total annual burden on respondents, the formula used to calculate the total burden hour is the estimated average time per responses hours multiplied by the estimated total annual responses.

Estimate of Average Time to Respond: Public reporting burden for this collection of information is estimated to average 0.56 hours per response.

Type of Respondents: Individuals or households, business, or other for-profit farms.

Estimated Annual Number of Respondents: 160.

Estimated Number of Responses per Respondent: 1.

Estimated Total Annual Responses: 160.

Estimated Average Time per Responses: 0.56 hours.

Estimated Total Annual Burden on Respondents: 90 hours.

We are requesting comments on all aspects of this information collection to help us to:

(1) Evaluate whether the collection of information is necessary for the proper performance of the functions of FSA, including whether the information will have practical utility;

(2) Evaluate the accuracy of FSA's estimate of burden including the validity of the methodology and assumptions used;

(3) Enhance the quality, utility, and clarity of the information to be collected;

(4) Minimize the burden of the collection of information on those who are to respond, including through the use of appropriate automated, electronic, mechanical, or other technological collection techniques or other forms of information technology.

All responses to this notice, including names and addresses when provided, will be summarized and included in the request for OMB approval. All comments will also become a matter of public record.

Zach Ducheneaux,
Administrator, Farm Service Agency.

[FR Doc. 2023-03211 Filed 2-14-23; 8:45 am]

BILLING CODE 3411-25-P